DEPARTMENT OF AGRICULTURE

Forest Service

Information Collection; Request for Comment; Whole Enchilada Trail: Conditions, User Experience & Comment Survey 2019

AGENCY: Forest Service, USDA.

ACTION: Notice, request for comment.

SUMMARY: In accordance with the Paperwork Reduction Act of 1995, the Forest Service is seeking comments from all interested individuals and organizations on the new information collection; Whole Enchilada Trail: Conditions, User Experience & Comment Survey 2019.

DATES: Comments must be received in writing on or before December 31, 2018 to be assured of consideration. Comments received after that date will be considered to the extent practicable.

ADDRESSES: Comments concerning this notice should be addressed to Zachary Lowe, Forest Service, USDA, P.O. Box 386, Moab, Utah 84532. Comments also may be submitted via facsimile to 435-636-7737 or by email to: zklowe@fs.fed.us.

The public may inspect comments received at Moab Ranger District, 62 E 100 North, Moab, Utah 84532 during normal business hours. Visitors are encouraged to call ahead to 435-259-7155 to facilitate an appointment and entry to the building.

FOR FURTHER INFORMATION CONTACT: Zachary Lowe: Natural Resource Specialist—Recreation. Moab Ranger District, 62 E 100 North, Moab, Utah 435-636-3335. Individuals who use TDD may call the Federal Relay Service (FRS) at 1-800-877-8339, 24 hours a day, every day of the year, including holidays.

SUPPLEMENTARY INFORMATION:

Title: The Whole Enchilada Trail: Conditions, User Experience & Comment Survey 2019.

OMB Number: 0596-New.

Expiration Date of Approval: N/A.

Type of Request: New.

Abstract: The Moab Ranger District of the Manti-La Sal National Forest, in southeastern Utah (Region 4) is looking to amend a 2013 Needs Assessment for Recreation Special Uses. In order to increase commercial use on the Whole Enchilada trail, the 2013 Needs Assessment requires the Moab Ranger District to conduct a recreational carrying capacity study, of which the Whole Enchilada: Conditions, User Experience & Comment Survey 2019, is an integral part of that study. Furthermore, the requested information collection will provide baseline data of use and public perception that will help with future management on this increasingly popular trail. The Forest and Rangeland Renewable Resources Planning Act of 1974 (Pub. L. 93-278 Sec. 3), et al., authorizes the collection.

The Whole Enchilada is a multi-trail system that spans over 30 miles, descends more than 7000' in elevation, and traverses diverse ecosystems which are managed by two separate, yet cooperating governmental agencies—U.S. Department of Agriculture, Forest Service, and the U.S. Department of Interior, Bureau of Land Management (BLM). The popularity and subsequent use of this trail has dramatically increased on all sections of the trail. Thus, natural resource protection and maintaining positive user experiences needs to be, not only assessed, but become a priority management objective, especially for the Moab Ranger District of the Manti-La Sal National Forest.

The data will be collected via traditional paper survey to be conducted at certain trail heads and exit points along the Whole Enchilada trail system. The survey is designed to be completed on site. However, there will be a mail-in option available for those willing but unable to complete the survey on site. The survey consists of 5 pages with 20 questions. There will be tables and chairs set up at trailheads and exits to aid in survey completion. The surveys will be administered by the survey author, Zachary Lowe, by other USFS employees, and volunteers. The survey is scheduled to take place during the peak season of use on the trail system which is mid-September to mid-October of 2019. This survey is intended for use only in 2019 and not for subsequent years nor on any other trails on National Forest System (NFS) or BLM lands.

The survey seeks public input, specifically trial users, about the Whole Enchilada trail on NFS lands. The 20 questions have several formats such as multiple choice, binary (yes/no), open-ended, and likert scales (i.e.,1-5 satisfaction scale). The survey is intended for any user of the group willing to take the survey. The targeted user groups include: Individuals, commercially-guided individuals, special use permittees (i.e., outfitters and guides, shuttle companies), non-governmental entities (i.e., trail work organizations, user-group organizations, and/or environmental groups), and other non-Forest Service and Bureau of Land Management (BLM) affiliated individuals or groups (i.e., other stakeholders and partners).

The survey asks for user type (hiker, biker, et al.), user experience levels (beginner, intermediate, et al.), user age and user sex. Access information—specific trailhead, mode of transport to trail heads, access road conditions, quantity of access—is also asked. Survey takers are asked to describe conditions of Forest Service trails and facilities as well as describe their experience and satisfaction on the Whole Enchilada. These questions ask users to rate the acceptability of the trail, facilities, overall use and management of trails, other user groups, user encounters and/or conflicts, perceptions of crowding. Several questions ask about acceptance of potential Forest Service actions to protect resources and provide the best user experience such as additional fees, increased Forest Service presence/patrols, increased trail work, restricted commercial use, increased commercial use, limitations on user type, and other use related issues.

The data and information will be complied and analyzed by the author of the survey. All collected data will be run through different statistical analyses by the author and volunteer statisticians to acquire useful and beneficial information about the trail. This data will be used in and presented as part of a recreational carrying capacity study for the Whole Enchilada trail system. The survey will help gauge the public's perception of conditions of trails, facilities, usage and Forest Service managerial actions. The data collected from the public, in concert with the carrying capacity study, will help determine future management objectives and actions related to the Whole Enchilada trail system.

If the survey were not to occur, vital stakeholder information would be absent from the recreation carrying capacity study and would be incomplete for all intents and purposes. Without the survey, the subsequent carrying capacity study would be incomplete and lacking baseline data including public perceptions about use and conditions. The aforementioned 2013 Needs Assessment that requires the Manti-La Sal National Forest to conduct a carrying capacity study, and by proxy, a public survey, would be unmet and the Forest Service could not potentially increase commercial use on the Whole Enchilada trail system. This trail has seen increased use and popularity in the last decade and current management standards may be inadequate for natural resource protection and public demand/access to this trail system.

Estimate of Annual Burden: Each survey will take anywhere from 15-20 minutes to complete fully.

Type of Respondents: Public individuals: Trail users (hikers, bikers, etc.), outfitter and guides (commercially using the trail), and local business owners (whom use the trail).

Estimated Annual Number of Respondents: 1,000 Maximum for one year in 2019.

Estimated Annual Number of Responses per Respondent: 1.

Estimated Total Annual Burden on Respondents: 20,000 minutes.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 18, 2018.
Gregory C. Smith,
Acting Associate Deputy Chief, National Forest System.

[FR Doc. 2018-23827 Filed 10-30-18; 8:45 am]

BILLING CODE 3411-15-P